DEPARTMENT OF TRANSPORTATION

Federal Aviation Administration

Notice of Intent To Release Airport Property From Quitclaim Deed; North Perry Airport, Hollywood, FL

AGENCY: Federal Aviation Administration (FAA), DOT.

ACTION: Request for public comment.

SUMMARY: The FAA hereby provides notice of intent to release approximately 0.07 acres of airport property at North Perry Airport, Hollywood, FL, from the conditions, reservations, and restrictions as contained in a Quitclaim Deed agreement between the FAA and Broward County, FL, dated October 11, 1957. The release of property will allow Broward County to dispose of the property for other than aeronautical purposes. The property is located at the intersection of Pembroke Road (State Road 824) and Airport Drive South, Hollywood, Florida. The parcel is currently designated as non-aeronautical land use. The property will be released of its federal obligations in order for the FDOT to use the property for installation and maintenance of a traffic signal device and associated highway improvements. The fair market value of these parcels has been determined to be $53,900.

DATES: Comments are due on or before May 19, 2016.

ADDRESSES: Documents are available for review at Broward County Aviation Department, 2200 SW 45th Street, Suite 101, Dania Beach, Florida 33312; and the FAA Airports District Office, 5950 Hazeltine National Drive, Suite 400, Orlando, FL 32822. Written comments on the Sponsor's request must be delivered or mailed to: Marisol C. Elliott, Community Planner, Orlando Airports District Office, 5950 Hazeltine National Drive, Suite 400, Orlando, FL 32822-5024. Documents reflecting the Sponsor's request are available for inspection by appointment only at the Broward County Aviation Department and by contacting the FAA at the address listed above.

FOR FURTHER INFORMATION CONTACT: Marisol C. Elliott, Community Planner, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Issued in Orlando, Florida, on April 12, 2016.
Bart Vernace,
Manager, Orlando Airports District Office, Southern Region.

[FR Doc. 2016-09079 Filed 4-18-16; 8:45 a.m.]

BILLING CODE 4910-13-P